DEPARTMENT OF COMMERCE

International Trade Administration

Notice of Amendments to the Security Mission for Economic Prosperity in El Salvador, Guatemala, and Honduras

AGENCY: International Trade Administration, Department of Commerce.

ACTION: Notice.

SUMMARY: The United States Department of Commerce, International Trade Administration, is amending the Notice published in the Federal Register regarding the Security Mission for Economic Prosperity in El Salvador, Guatemala, and Honduras, scheduled from May 17-22, 2020, to amend the regional conference title, dates, and deadline for submitting applications for the event.

SUPPLEMENTARY INFORMATION: Amendments to Revise the Regional Conference Title, Dates, and Deadline for Submitting Applications originally published at 85 FR 12259 (March 5, 2020).

Background

The International Trade Administration (ITA) is retitling its regional conference San Salvador, El Salvador to “Regional Security Strategies for Economic Prosperity.” The dates of ITA's planned Security Mission for Economic Prosperity to El Salvador, Guatemala, and Honduras have been modified from May 17-22, 2020, to October 25-30, 2020. The new deadline for applications has been extended to August 14, 2020 (and after that date if space remains and scheduling constraints permit). Interested U.S. companies and trade associations/organizations that have not already submitted an application are encouraged to do so. The proposed schedule is updated as follows:

Proposed Timetable

Sunday, October 25

Arrive in San Salvador, El Salvador

Ice breaker reception for companies and core team members

Monday, October 26

Regional SCO will kick off Regional Security Strategies for Economic Prosperity conference to which the mission participants will attend and learn about regional priorities, policy and regulatory changes, and projects throughout the region.

Reception in the evening at the Chief of Mission's residence for companies, government officials, and local private sector guests.

Tuesday, October 27

One-on-one business matchmaking appointments in El Salvador

Wednesday, October 28

Arrival in Guatemala or Honduras for matchmaking and other networking

Friday, October 30

End of Mission

The U.S. Department of Commerce will review applications and make selection decisions on a rolling basis in accordance with the Notice published at 85 FR 12259 (March 5, 2020). The applicants selected will be notified as soon as possible.

Contact Information

April Redmon, U.S. Commercial Service, U.S. Department of Commerce Tel: 703-235-0103, Email: April.redmon@trade.gov.

Gemal Brangman,
Senior Advisor, Trade Missions, ITA Events Management Task Force.

[FR Doc. 2020-07544 Filed 4-9-20; 8:45 am]

BILLING CODE 3510-DR-P